DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Virginia Modified Pound Net Leader Inspection Program.

OMB Control Number: 0648-0559.

Form Number(s): None.

Type of Request: Regular (extension of a currently approved information collection).

Number of Respondents: 19.

Average Hours per Response: Calls to arrange meeting with inspector, and calls to request replacement tags, 5 minutes each. Meeting with inspector, 1 hour.

Burden Hours: 70.

Needs and Uses: This request is for extension of a currently approved information collection, an inspection program for modified pound net leaders in the Virginia waters of the mainstem Chesapeake Bay. Pound net fishermen must call the National Marine Fisheries Service (NMFS) to arrange for a meeting. At the meeting, they must allow for the inspection of gear to ensure the modified leader meets the definition of a modified pound net leader, as described in the regulations (§ 222.102). This inspection program is necessary to provide fishermen with the insurance that their leaders meet the regulatory definition of a modified pound net leader before setting their gear, provide managers with the knowledge that the offshore leaders in a portion of the Virginia Chesapeake Bay are configured in a sea turtle-safe manner, and aid in enforcement efforts. This collection of information will end when Final Rule 0648-BB37 becomes effective and will be replaced by a training (consult the April 17, 2014 proposed rule (79 FR 21695) for details on the inspection program cessation).

Affected Public: Individuals or households.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 17, 2014.
Glenna Mickelson,
Management Analyst, Office of the Chief Information Officer.

[FR Doc. 2014-25107 Filed 10-21-14; 8:45 am]

BILLING CODE 3510-22-P